DEPARTMENT OF TRANSPORTATION

Federal Aviation Administration

14 CFR Part 39

[Docket No. 2000-NM-04-AD]

RIN 2120-AA64

Airworthiness Directives; McDonnell Douglas Model DC-9-10, -20, -30, -40, and -50 Series Airplanes and C-9 (Military) Airplanes

AGENCY: Federal Aviation Administration, DOT.

ACTION: Notice of proposed rulemaking (NPRM).

SUMMARY: This document proposes the supersedure of an existing airworthiness directive (AD), applicable to certain McDonnell Douglas Model DC-9-10, -20, -30, -40, and -50 series airplanes, that currently requires repetitive radiographic and ultrasonic or eddy current inspections, and modification of the upper cap of the front spar of the left and right engine pylons, if necessary. This action would require new, improved x-ray and eddy current inspections to detect cracks of the upper cap of the front spar of the left and right engine pylons, and repetitive inspections or corrective actions, if necessary. This action also would require modification of the subject area, which would constitute terminating action for the repetitive inspection requirements. This proposal is prompted by additional reports of fatigue cracking in the subject area of these airplanes. The actions specified by the proposed AD are intended to prevent failure of the upper cap of the front spar of the engine pylons due to fatigue cracking, and consequent reduced structural integrity of the airplane.

DATES: Comments must be received by August 21, 2000.

ADDRESSES: Submit comments in triplicate to the Federal Aviation Administration (FAA), Transport Airplane Directorate, ANM-114, Attention: Rules Docket No. 2000-NM-04-AD, 1601 Lind Avenue, SW., Renton, Washington 98055-4056. Comments may be submitted via fax to (425) 227-1232. Comments may also be sent via the Internet using the following address: 9-anm-nprmcomment@faa.gov. Comments sent via fax or the Internet must contain “Docket No. 2000-NM-04-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; or at the the FAA, Transport Airplane Directorate, Los Angeles Aircraft Certification Office, 3960 Paramount Boulevard, Lakewood, California.

FOR FURTHER INFORMATION CONTACT: Wahib Mina, Aerospace Engineer, Airframe Branch, ANM-120L, FAA, Transport Airplane Directorate, Los Angeles Aircraft Certification Office, 3960 Paramount Boulevard, Lakewood, California 90712-4137; telephone (562) 627-5324; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-04-AD.” The postcard will be date stamped and returned to the commenter.

Availability of NPRMs

Any person may obtain a copy of this NPRM by submitting a request to the FAA, Transport Airplane Directorate, ANM-114, Attention: Rules Docket No. 2000-NM-04-AD, 1601 Lind Avenue, SW., Renton, Washington 98055-4056.

Discussion

In 1977, the FAA issued AD 77-44-19, amendment 39-2971, applicable to certain McDonnell Douglas Model DC-9-10, -20, -30, -40, and -50 series airplanes, to require repetitive radiographic and ultrasonic or eddy current inspections, and modification of the upper cap of the front spar of the left and right engine pylons, if necessary. The requirements of that AD are intended to detect fatigue cracks and/or failure of the upper cap of the front spar of the left and right engine pylons.

Actions Since Issuance of Previous Rule

Since the issuance of AD 77-14-19, the FAA has received additional reports of fatigue cracking in the subject area of the upper cap of the front spar of the left and right engine pylons. The airplanes on which the cracking occurred had accumulated between 10,162 and 23,850 total flight hours. Investigation revealed that the repetitive ultrasonic and eddy current inspections, as required by AD 77-14-19, do not adequately detect fatigue cracking in the subject area. Such fatigue cracking, if not detected and corrected, could result in failure of the upper cap of the front spar of the left and right engine pylons, and consequent reduced structural integrity of the airplane.

Explanation of Relevant Service Information

The FAA has reviewed and approved McDonnell Douglas Service Bulletin DC9-54-030, Revision 06, dated November 11, 1999. The service bulletin describes procedures for x-ray and eddy current inspections to detect cracks of the upper cap of the front spar of the left and right engine pylons, and repetitive inspections or corrective actions (i.e., the modification described below), if necessary. The service bulletin also describes procedures for an optional modification of the upper cap of the front spar of the left and right engine pylons, which would eliminate the need for the repetitive inspections. Accomplishment of the actions specified in the service bulletin is intended to adequately address the identified unsafe condition.

Explanation of Requirements of Proposed Rule

Since an unsafe condition has been identified that is likely to exist or develop on other products of this same type design, the proposed AD would supersede AD 77-14-19 to continue to require radiographic and ultrasonic or eddy current inspections. The proposed AD also would require accomplishment of the actions specified in the service bulletin described previously, except as discussed below.

Differences Between the Proposed AD and Relevant Service Information

Operators should note that this AD proposes to mandate, prior to the accumulation of 100,000 total landings, or within 6 months after the effective date of this AD, whichever occurs later, the modification of the upper cap of the front spar of the left and right engine pylons described in McDonnell Douglas Service Bulletin DC9-54-030, Revision 06, as terminating action for the repetitive inspections. (Incorporation of the terminating action is specified in this service bulletin as optional).

The FAA has determined that long-term continued operational safety will be better assured by design changes to remove the source of the problem, rather than by repetitive inspections. Long-term inspections may not be providing the degree of safety assurance necessary for the transport airplane fleet. This, coupled with a better understanding of the human factors associated with numerous continual inspections, has led the FAA to consider placing less emphasis on inspections and more emphasis on design improvements. The proposed modification requirement is consistent with these conditions.

Explanation of Change of Applicability

The applicability of AD 77-14-19 includes affected airplanes having fuselage numbers 1 through 837. However, the applicability of this proposed AD removes several of those fuselage numbers because those airplanes are out of service.

Cost Impact

There are approximately 809 Model DC-9-10, -20, -30, -40, and -50 series airplanes and C-9 (military) airplanes of the affected design in the worldwide fleet. The FAA estimates that 572 airplanes of U.S. registry would be affected by this proposed AD.

The actions that are currently required by AD 77-14-19, and retained in this proposed AD, take approximately 12 work hours per airplane to accomplish, at an average labor rate of $60 per work hour. Based on these figures, the cost impact of the currently required actions on U.S. operators is estimated to be $411,840, or $720 per airplane, per inspection cycle.

The new inspection that is proposed in this AD action would take approximately 12 work hours per airplane to accomplish, at an average labor rate of $60 per work hour. Based on these figures, the cost impact of this inspection proposed by this AD on U.S. operators is estimated to be $411,840, or $720 per airplane, per inspection cycle.

The new modification that is proposed in this AD action would take approximately 110 work hours per airplane to accomplish, at an average labor rate of $60 per work hour. Required parts would cost approximately $30,496 per airplane. Based on these figures, the cost impact of the modification proposed by this AD on U.S. operators is estimated to be $21,218,912, or $37,096 per airplane.

The cost impact figures discussed above are based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-2971, and by adding a new airworthiness directive (AD), to read as follows:

McDonnell Douglas: Docket 2000-NM-04-AD. Supersedes AD 77-14-19, Amendment 39-2971.

Applicability: Model DC-9-10, -20, -30, -40, and -50 series airplanes and C-9 (military) airplanes; as listed in McDonnell Douglas Service Bulletin DC9-54-030, Revision 06, dated November 11, 1999; certificated in any category; except for those airplanes on which Special Change Notification 1269A, dated August 11, 1965, or Service Rework Drawing SR09540004, Change “E,” dated September 21, 1992, Change “F,” dated April 19, 1995, Change “G,” dated May 6, 1997, or Change “H,” dated July 12, 1997, has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if the unsafe condition has not been eliminated, the request should include specific proposed actions to address it.

Compliance: Required as indicated, unless accomplished previously.

To prevent failure of the front spar attachment and upper cap of the engine pylons due to fatigue cracking, and consequent reduced structural integrity of the airplane, accomplish the following:

Repetitive Inspections

(a) Prior to the accumulation of 9,800 total flight hours, or within the next 1,800 flight hours after August 23, 1977 (the effective date of AD 77-14-19, amendment 39-2971), whichever occurs later, unless accomplished previously within the last 1,800 flight hours, accomplish the radiographic and ultrasonic or eddy current inspections in accordance with the instructions in Douglas Service Bulletin 54-30, dated January 19, 1977. Repeat the inspection thereafter at intervals not to exceed 3,600 flight hours. For those operators who have conducted only the radiographic inspections in accordance with Douglas All Operators Letter AOL 9-835, dated October 30, 1974, perform the ultrasonic or eddy current inspections, and thereafter, the radiographic and ultrasonic or eddy current inspection in accordance with the requirements of this AD, as applicable.

Note 2: Inspections accomplished prior to the effective date of this AD in accordance with McDonnell Douglas Service Bulletin 54-30, Revision 1, dated June 29, 1977, Revision 2, dated October 27, 1978, Revision 3, dated April 30, 1986, or Revision 4, dated March 25, 1991; or McDonnell Douglas Service Bulletin DC9-54-030, Revision 05, dated August 26, 1999, or Revision 06, dated November 11, 1999; are considered acceptable for compliance with the inspections required by paragraph (a) of this AD.

Initial Inspections and Follow-On/Corrective Action

(b) For airplanes on which the modification specified in paragraph (e) of this AD has not been accomplished: Prior to the accumulation of 8,000 total flight hours or within 3,600 flight hours after the effective date of this AD, whichever occurs later, perform x-ray and eddy current inspections to detect cracks of the upper cap of the front spar of the left and right engine pylons, in accordance with McDonnell Douglas Service Bulletin DC9-54-030, Revision 06, dated November 11, 1999. Accomplishment of these inspections constitutes terminating action for the repetitive inspection requirements of paragraph (a) of this AD.

No Crack Detected: Repetitive Inspections

(c) If no crack is detected during any inspection required by paragraph (a) or (b) of this AD, repeat the inspections thereafter at intervals not to exceed 3,600 flight hours until the modification required by paragraph (e) of this AD is accomplished.

Any Crack Detected: Modification

(d) If any crack is detected during any inspection required by paragraph (a) or (b) of this AD, prior to further flight, accomplish the modification specified in paragraph (e) of this AD.

Terminating Modification

(e) Except as provided by paragraph (d) of this AD, prior to the accumulation of 100,000 total landings, or within 6 months after the effective date of this AD, whichever occurs later, modify the upper cap of the front spar of the left and right engine pylons in accordance with McDonnell Douglas Service Bulletin DC9-54-030, Revision 06, dated November 11, 1999. Accomplishment of this modification constitutes terminating action for the requirements of this AD.

Note 3: Accomplishment of the modification of the upper cap of the front spar of the left and right engine pylons prior to the effective date of this AD in accordance with Douglas Service Bulletin 54-30, Revision 4, dated March 25, 1991, or McDonnell Douglas Service Bulletin DC9-54-030, Revision 5, dated August 26, 1999; is considered acceptable for compliance with the modification specified in paragraph (e) of this AD.

(f) Accomplishment of the terminating modification required by paragraph (e) of this AD constitutes compliance with the actions specified in McDonnell Douglas Service Bulletin 54-30, Revision 4, dated March 25, 1991, as required by AD 96-10-11, amendment 39-9618 (61 FR 24675, May 16, 1996) [which references “DC-9/MD-80 Aging Aircraft Service Action Requirements Document” (SARD), McDonnell Douglas Report MDC K1572, Revision B, dated January 15, 1993].

Alternative Methods of Compliance

(g) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(h) Special flight permits may be issued in accordance with sections 21.197 and 21.199 of the Federal Aviation Regulations (14 CFR 21.197 and 21.199) to operate the airplane to a location where the requirements of this AD can be accomplished.

Issued in Renton, Washington, on June 27, 2000.
Donald L. Riggin,
Acting Manager, Transport Airplane Directorate, Aircraft Certification Service.

[FR Doc. 00-16927 Filed 7-3-00; 8:45 am]

BILLING CODE 4910-13-P